DEPARTMENT OF AGRICULTURE

Forest Service

Diamond Lake Restoration Project, Umpqua National Forest, Douglas County, OR

AGENCY: Forest Service, USDA.

ACTION: Revised notice of intent to prepare an environmental impact statement.

SUMMARY: On April 25, 2003, the USDA Forest Service, published a notice of intent in the Federal Register (68 FR 20367) and a revised notice of intent (68 FR 65240) to prepare an environmental impact statement (EIS) for the Diamond Lake Restoration Project. The original and revised notice of intent (NOI) did not identify the need for a non-significant Forest Plan Amendment (Amendment #5) for the proposed action. The Forest Service is revising the NOI to add a non-significant Forest Plan Amendment to the Proposed Action (Alternative 2) to allow the use of rotenone (a fish toxicant) within Diamond Lake and Short and Silent Creeks, which would not normally occur under Standard and Guideline Water Quality/Riparian Areas #8 (LRMP IV-60) and Prescription C2-IV Fish Habitat Class I and II Streams, Lakes, and Ponds (LRMP IV 176-178). The non-significant Forest Plan Amendment (Amendment #5) would apply to this project only; upon completion of the Diamond Lake Restoration Project, Standard and Guideline Water Quality/Riparian Areas #8 and Prescription C2-IV would again apply to Diamond Lake and Short and Silent Creeks.

FOR FURTHER INFORMATION CONTACT: Sherri L. Chambers, Team Leader, North Umpqua Range District, 18782 North Umpqua Highway, Glide, Oregon 97443, or (541) 496-3532.

Dated: February 2, 2004.
James A. Caplan,
Forest Supervisor.

[FR Doc. 04-2563 Filed 2-5-04; 8:45 am]

BILLING CODE 3410-11-M